DEPARTMENT OF LABOR

Mine Safety and Health Administration

Notice of Affirmative Decisions on Petitions for Modification Granted in Whole or in Part

AGENCY: Mine Safety and Health Administration (MSHA), Labor.

ACTION: Notice of Affirmative Decisions on Petitions for Modification Granted in Whole or in Part.

SUMMARY: The Mine Safety and Health Administration (MSHA) enforces mine operator compliance with mandatory safety and health standards that protect miners and improve safety and health conditions in U.S. Mines. This Federal Register Notice (FR Notice) notifies the public that it has investigated and issued a final decision on certain mine operator petitions to modify a safety standard.

ADDRESSES: Copies of the final decisions are posted on MSHA's Web site at http://www.msha.gov/indexes/petition.htm. The public may inspect the petitions and final decisions during normal business hours in MSHA's Office of Standards, Regulations, and Variances, 1100 Wilson Boulevard, Room 2349, Arlington, Virginia 22209. All visitors must first stop at the receptionist desk on the 21st Floor to sign-in.

FOR FURTHER INFORMATION CONTACT: Edward Sexauer, Chief, Regulatory Development Division at 202-693-9444 (Voice), sexauer.edward@dol.gov (E-mail), or 202-693-9441 (Telefax), or Barbara Barron at 202-693-9447 (Voice), barron.barbara@dol.gov (E-mail), or 202-693-9441 (Telefax). [These are not toll-free numbers].

SUPPLEMENTARY INFORMATION:

I. Introduction

Under section 101 of the Federal Mine Safety and Health Act of 1977, a mine operator may petition and the Secretary of Labor (Secretary) may modify the application of a mandatory safety standard to that mine if the Secretary determines that: (1) An alternative method exists that will guarantee no less protection for the miners affected than that provided by the standard; or (2) that the application of the standard will result in a diminution of safety to the affected miners.

MSHA bases the final decision on the petitioner's statements, any comments and information submitted by interested persons, and a field investigation of the conditions at the mine. In some instances, MSHA may approve a petition for modification on the condition that the mine operator complies with other requirements noted in the decision.

II. Granted Petitions for Modification

On the basis of the findings of MSHA's investigation, and as designee of the Secretary, MSHA has granted or partially granted the following petitions for modification:

• Docket Number: M-2006-063-C.

FR Notice: 71 FR 58434 (October 3, 2006).

Petitioner: Jim Walter Resources, Inc., P.O. Box 133, Brookwood, Alabama 35444.

Mine: No. 7 Mine, MSHA I.D. No. 01-01401.

Regulation Affected: 30 CFR 75.364(b)(1) (Weekly examination).

• Docket Number: M-2006-066-C.

FR Notice: 71 FR 58433 (October 3, 2006).

Petitioner: Monterey Coal Company, 14300 Brushy Mound Road, Carlinville, Illinois 62626.

Mine: No. 1 Mine, MSHA I.D. No. 11-00726.

Regulation Affected: 30 CFR 75.364(b)(1) (Weekly examination).

• Docket Number: M-2006-068-C.

FR Notice: 71 FR 70549 (December 5, 2006).

Petitioner: Consol Pennsylvania Coal Company, 1800 Washington Road, Pittsburgh, Pennsylvania 15241.

Mine: Bailey Mine, MSHA I.D. No. 36-07230.

Regulation Affected: 30 CFR 75.364(b)(1) (Weekly examination).

• Docket Number: M-2007-004-C.

FR Notice: 72 FR 20885 (April 26, 2007).

Petitioner: Oak Grove Resources, LLC, 8800 Oak Grove Mine Road, Adger, Alabama 35006.

Mine: Oak Grove Mine, MSHA I.D. No. 01-00851.

Regulation Affected: 30 CFR 75.364(b)(2) (Weekly examination).

• Docket Number: M-2007-006-C.

FR Notice: 72 FR 20887 (April 26, 2007).

Petitioner: Knight Hawk Coal, LLC, 7290 County Line Road, Cutler, Illinois 62238.

Mine: Prairie Eagle Underground Mine, MSHA I.D. No 11-03147.

Regulation Affected: 30 CFR 75.503 (Permissible electric face equipment; maintenance).

• Docket Number: M-2007-007-C.

FR Notice: 72 FR 31858 (June 8, 2007).

Petitioner: Mingo Logan Coal Company, P.O. Box 553, Charleston, West Virginia 25322.

Mine: Mountaineer II Mine, MSHA I.D. No. 46-09029.

Regulation Affected: 30 CFR 75.1700 (Oil and gas wells).

• Docket Number: M-2007-012-C.

FR Notice: 72 FR 31859 (June 8, 2007).

Petitioner: Eighty-Four Mining Company, 1800 Washington Road, Pittsburgh, Pennsylvania 15241.

Mine: Mine 84, MSHA I.D. No. 36-00958.

Regulation Affected: 30 CFR 75.364(b)(2) (Weekly examination).

• Docket Number: M-2007-022-C.

FR Notice: 72 FR 31861 (June 8, 2007).

Petitioner: Little Buck Coal Company, 57 Lincoln Road, Pine Grove, Pennsylvania 17963.

Mine: Bottom Split Slope, MSHA I.D. No. 36-09491.

Regulation Affected: 30 CFR 75.1100-2(a)(2) (Quantity and location of firefighting equipment).

• Docket Number: M-2007-032-C.

FR Notice: 72 FR 36065 (July 2, 2007).

Petitioner: Chestnut Coal Company, RD 3, Box 142B, Sunbury, Pennsylvania 17801.

Mine: No. 12 Slope, MSHA I.D. No. 36-09493.

Regulation Affected: 30 CFR 75.1200(d), (h), & (i) (Mine map).

• Docket Number: M-2007-033-C.

FR Notice: 72 FR 36065 (July 2, 2007).

Petitioner: Chestnut Coal Company, RD 3, Box 142B, Sunbury, Pennsylvania 17801.

Mine: No. 12 Slope, MSHA I.D. No. 36-09493.

Regulation Affected: 30 CFR 75.1202-1(a) (Temporary notations, revisions, and supplements).

• Docket Number: M-2007-034-C.

FR Notice: 72 FR 36065 (July 2, 2007).

Petitioner: Chestnut Coal Company, RD 3, Box 142B, Sunbury, Pennsylvania 17801.

Mine: No. 12 Slope, MSHA I.D. No. 36-09493.

Regulation Affected: 30 CFR 75.1400 (Hoisting equipment; general).

• Docket Number: M-2007-037-C.

FR Notice: 72 FR 39464 (July 18, 2007).

Petitioner: Mallie Coal Company, Inc., 8442 Highway 6, Corbin, Kentucky 40701.

Mine: Mine No. 7, MSHA I. D. No. 15-19007.

Regulation Affected: 30 CFR 75.380(f)(4)(i) (Escapeways; bituminous and lignite mines).

• Docket Number: M-2007-038-C.

FR Notice: 72 FR 39464 (July 18, 2007).

Petitioner: Mallie Coal Company, Inc., 8442 Highway 6, Corbin, Kentucky 40701.

Mine: Mine No. 7, MSHA I.D. No. 15-19007.

Regulation Affected: 30 CFR 75.342 (Methane monitors).

• Docket Number: M-2007-045-C.

FR Notice: 72 FR 45829 (August 15, 2007).

Petitioner: Alpha & Omega Coal Company, LLC, Drawer 887, Louisa, Kentucky 41230.

Mine: No. 2 Deep Mine, MSHA I.D. No. 46-09187.

Regulation Affected: 30 CFR 75.1002 (Installation of electric equipment and conductors; permissibility).

• Docket Number: M-2007-048-C.

FR Notice: 72 FR 45830 (August 15, 2007).

Petitioner: Paramont Coal Company Virginia, LLC, 2333 Alumni Park Plaza, Suite 310, Lexington, Kentucky 40517.

Mine: Deep Mine #26, MSHA I.D. No. 44-06929.

Regulation Affected: 30 CFR 75.1909(b)(6) (Nonpermissible diesel-powered equipment; design and performance requirements).

• Docket Number: M-2006-006-M.

FR Notice: 71 FR 58434 (October 3, 2006).

Petitioner: Mosaic Potash Carlsbad, Inc., P.O. Box 71, 1361 Potash Mines Road, Carlsbad, New Mexico 88221-0071.

Mine: Mosaic Potash Carlsbad, Inc., Mine, MSHA I.D. No. 29-00802.

Regulation Affected: 30 CFR 57.15031 (Location of self-rescue devices).

• Docket Number: M-2006-008-M.

FR Notice: 71 FR 58434 (October 3, 2006).

Petitioner: Intrepid Potash NM, LLC, 1996 Potash Mines Road, P.O. Box 101, Carlsbad, New Mexico 88221-0101.

Mine: Intrepid Potash West Mine, MSHA I.D. No. 29-00175.

Regulation Affected: 30 CFR 57.15031 (Location of self-rescue devices).

• Docket Number: M-2006-009-M.

FR Notice: 71 FR 58434 (October 3, 2006).

Petitioner: Intrepid Potash NM, LLC, 1996 Potash Mines Road, P.O. Box 101, Carlsbad, New Mexico 88221-0101.

Mine: Intrepid Potash East Mine, MSHA I.D. No. 29-00170.

Regulation Affected: 30 CFR 57.15031 (Location of self-rescue devices).

• Docket Number: M-2007-003-M.

FR Notice: 72 FR 31860 (June 8, 2007).

Petitioner: Intrepid Potash NM, LLC, 1996 Potash Mines Road, P.O. Box 101, Carlsbad, New Mexico 88221-0101.

Mine: Intrepid Potash West Mine, MSHA I.D. No. 29-00175.

Regulation Affected: 30 CFR 57.18028 (Mine emergency and self-rescuer training).

• Docket Number: M-2007-004-M.

FR Notice: 72 FR 31861 (June 8, 2007).

Petitioner: Intrepid Potash NM, LLC, 1996 Potash Mines Road, P.O. Box 101, Carlsbad, New Mexico 88221-0101.

Mine: Intrepid Potash East Mine, MSHA I.D. No. 29-00170.

Regulation Affected: 30 CFR 57.18028 (Mine emergency and self-rescuer training).

• Docket Number: M-2007-007-M.

FR Notice: 72 FR 45830 (August 15, 2007.

Petitioner: Phelps Dodge Safford, Inc., 1124 W. Thatcher Blvd., Suite 202, Safford, Arizona 85546.

Mine: Phelps Dodge Safford, Inc., Mine, MSHA I.D. No. 02-03131.

Regulation Affected: 30 CFR 56.6309(b) (Fuel oil requirements for ANFO).

Dated: January 24, 2008.
Jack Powasnik,
Deputy Director, Office of Standards, Regulations, and Variances.

[FR Doc. E8-1609 Filed 1-29-08; 8:45 am]

BILLING CODE 4510-43-P